DEPARTMENT OF COMMERCE

National Oceanic and Atmospheric Administration

[Docket No: 030602141-5241-24; I.D. 061505A]

RIN 0648-ZB55

Availability of Grants Funds for Fiscal Year 2006; Extension of Application Deadline

AGENCY: National Oceanic and Atmospheric Administration (NOAA), Commerce.

ACTION: Notice.

SUMMARY: NOAA publishes this notice to extend the solicitation period on the Community-based Marine Debris Prevention and Removal Project Grants and the Research in Satellite Oceanography grant both of which were originally announced in the Federal Register on June 30, 2005. The solicitation periods for these programs were extended to provide the public more time to submit proposals.

SUPPLEMENTARY INFORMATION: NOAA publishes this notice to extend the solicitation period on the following initiatives originally announced in the Federal Register on June 30, 2005(70 FR 37766):

National Marine Fisheries Service

1. Community-based Marine Debris Prevention and Removal Project Grants (NMFS-HCPO-2006-2000351). NOAA extends the solicitation period from October 12, 2005 to December 12, 2005 to provide the public more time to submit proposals. All other requirements for this solicitation remain the same.

DATES: Applications should be submitted via www.grants.gov, and must be received by grants.gov no later than 11:59 PM EST on December 12, 2005. No facsimile or electronic mail applications will be accepted.

ADDRESSES: The address for submitting proposals electronically is: http://www.grants.gov/. Electronic submission is strongly encouraged. Applications should be submitted via www.grants.gov. If grants.gov cannot reasonably be used, applications must be postmarked, or provided to a delivery service and documented with a receipt, by December 12, 2005. NOAA Restoration Center, NOAA Fisheries, Office of Habitat Conservation (F/HC3), 1315 East West Highway, Silver Spring, MD 20910. ATTN: MDP Project Applications.

FOR FURTHER INFORMATION CONTACT: Elizabeth Fairey Liz.Fairey@noaa.gov or 301- 713-3459) or Robin Bruckner Robin.Bruckner@noaa.gov or 301-713-0174).

National Environmental Satellite, Data, and Information Service (NESDIS)

1. Research in Satellite Oceanography (NESDIS-NESDISPO-2006-2000342)

NOAA extends the solicitation period from September 23, 2005 to October 21, 2005 to provide the public more time to submit proposals. All other requirements for this solicitation remain the same.

DATES: Proposals must be received no later than 4:00 p.m. Eastern Daylight Time, October 21, 2005.

ADDRESSES: The standard NOAA application package is available at: http://www.grants.gov. For applicants without Internet access, an application package may be received by contacting Kathy LeFevre, NOAA/NESDIS 5200 Auth Road, Room 701, Camp Springs, Maryland 20746, or by phone at 301-763-8127 X103, or via email at Kathy.Lefevre@noaa.gov.

FOR FURTHER INFORMATION CONTACT: Kathy LeFevre, NOAA/NESDIS 5200 Auth Road, Room 701, Camp Springs, Maryland 20746, or by phone at 301-763-8127 X103, or via email at Kathy.Lefevre@noaa.gov.

Limitation of Liability

Funding for programs listed in this notice is contingent upon the availability of Fiscal Year 2006 appropriations. Applicants are hereby given notice that funds have not yet been appropriated for the programs listed in this notice. In no event will NOAA or the Department of Commerce be responsible for proposal preparation costs if these programs fail to receive funding or are cancelled because of other agency priorities. Publication of this announcement does not oblige NOAA to award any specific project or to obligate any available funds.

Universal Identifier

Applicants should be aware that they are required to provide a Dun and Bradstreet Data Universal Numbering System (DUNS) number during the application process. See the October 30, 2002 Federal Register, Vol. 67, No. 210, pp. 66177B66178, for additional information. Organizations can receive a DUNS number at no cost by calling the dedicated toll-free DUNS Number request line at 1-866-705-5711 or via the internet (http://www.dunandbradstreet.com ).

National Environmental Policy Act (NEPA)

NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative

Agreements contained in the Federal Register notice of December 30, 2004 (69 FR 78389), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: September 19, 2005.
Helen Hurcombe,
Director Acquisition and Grants Office, National Oceanic and Atmospheric Administration.

[FR Doc. 05-18963 Filed 9-21-05; 8:45 am]

BILLING CODE 3510-22-S